DEPARTMENT OF TRANSPORTATION

Federal Aviation Administration

14 CFR Part 39

[Docket No. FAA-2012-0942; Directorate Identifier 2012-NE-24-AD]

RIN 2120-AA64

Airworthiness Directives; Pratt & Whitney Canada Corp. Turboshaft Engines

AGENCY: Federal Aviation Administration (FAA), DOT.

ACTION: Notice of proposed rulemaking (NPRM).

SUMMARY: We propose to adopt a new airworthiness directive (AD) for certain serial number Pratt & Whitney Canada Corp. (P&WC) PW206B, PW206B2, PW206C, PW207C, PW207D, PW207D1, PW207D2, and PW207E turboshaft engines. This proposed AD was prompted by the discovery that certain power turbine (PT) disks were made to specific heat codes that may not achieve the maximum in-service life. This proposed AD would require re-identification of the PT disk to a part number (P/N) with a lower life limit. We are proposing this AD to prevent possible uncontained PT disk failure and loss of helicopter control.

DATES: We must receive comments on this proposed AD by January 7, 2013.

ADDRESSES: You may send comments by any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this AD, contact Pratt & Whitney Canada Corp., 1000 Marie-Victorin, Longueuil, Quebec, Canada, J4G 1A1; phone 800-268-8000; fax 450-647-2888; Web site: www.pwc.ca. You may view the referenced service information at the FAA, Engine & Propeller Directorate, 12 New England Executive Park, Burlington, MA. For information on the availability of this material at the FAA, call 781-238-7125.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is the same as the Mail address provided in the ADDRESSES section. Comments will be available in the AD docket shortly after receipt.

FOR FURTHER INFORMATION CONTACT: James Lawrence, Aerospace Engineer, Engine Certification Office, FAA, Engine & Propeller Directorate, 12 New England Executive Park, Burlington, MA 01803; phone: 781-238-7176; fax: 781-238-7199; email: james.lawrence@faa.gov.

SUPPLEMENTARY INFORMATION:

Comments Invited

We invite you to send any written relevant data, views, or arguments about this proposed AD. Send your comments to an address listed under the ADDRESSES section. Include “Docket No. FAA-2012-0942; Directorate Identifier 2012-NE-24-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

Transport Canada, which is the aviation authority for Canada, has issued Canada AD CF-2012-23, dated July 26, 2012 (referred to hereinafter as “the MCAI”), to correct an unsafe condition for the specified products. The MCAI states:

Certain power turbine (PT) disks, part number (P/N) 3044188-01, made to specific heat codes may not achieve the established maximum in-service life when installed in Turbomachinery Assembly P/N 3058588. The PT disk in-service life for engines using this specific PT disk and compressor turbine (CT) vane combination is reduced when operated in a particular temperature and speed environment.

You may obtain further information by examining the MCAI in the AD docket.

Relevant Service Information

P&WC has issued Alert Service Bulletin No. PW200-72-A28311, Revision 2, dated July 24, 2012. P&WC has also issued Engine Maintenance Manual (EMM) Temporary Revisions AL-3, AL-4, AL -12, AL-13, AL-16, AL-18, AL-19, and AL-20, all dated June 5, 2012. The actions described in this service information are intended to correct the unsafe condition identified in the MCAI.

FAA's Determination and Requirements of This Proposed AD

This product has been approved by the aviation authority of Canada, and is approved for operation in the United States. Pursuant to our bilateral agreement with Canada, they have notified us of the unsafe condition described in the MCAI and service information referenced above. We are issuing this proposed AD because we evaluated all information provided by Canada and determined the unsafe condition exists and is likely to exist or develop on other products of the same type design.

This proposed AD would require re-identification of the PT disk to a P/N with a lower life limit.

Differences Between This Proposed AD and the MCAI

The MCAI requires the re-identification or replacement of affected PT disks for engines with other than Turbomachinery Assembly P/N 3058588 installations. This proposed AD would not.

Costs of Compliance

We estimate that this proposed AD would affect about 83 engines installed on helicopters of U.S. registry. We also estimate that it would take about 4 hours per engine to comply with this proposed AD. The average labor rate is $85 per hour. Prorated parts life will cost about $8,900. Based on these figures, we estimate the cost of the proposed AD on U.S. operators to be $766,920.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

4. We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pratt & Whitney Canada Corp. (Formerly Pratt & Whitney Canada Inc.): Docket No. FAA-2012-0942; Directorate Identifier 2012-NE-24-AD.

(a) Comments Due Date

We must receive comments by January 7, 2013.

(b) Affected ADs

None.

(c) Applicability

This AD applies to Pratt & Whitney Canada Corp. (P&WC) model PW206B, PW206B2, PW206C, PW207C, PW207D, PW207D1, PW207D2, and PW207E turboshaft engines.

(d) Reason

This AD was prompted by certain power turbine (PT) disks, part number (P/N) 3044188-01, made to specific heat codes that may not achieve the established maximum in-service life when installed in Turbomachinery Assembly P/N 3058588. The PT disk in-service life for engines using this specific PT disk and compressor turbine vane combination is reduced when operated in a particular temperature and speed environment. We are issuing this AD to prevent possible uncontained PT disk failure and loss of helicopter control.

(e) Actions and Compliance

Unless already done, do the following actions.

(f) Affected PT Disks Installed With Turbomachinery Assembly P/N 3058588 Installation

(1) For any PT disk P/N 3044188-01 that is listed by serial number (S/N) in Table 1 of P&WC Alert Service Bulletin (ASB) No. PW200-72-A28311, Revision 2, dated July 24, 2012, and, that is installed or that had previously been installed with Turbomachinery Assembly P/N 3058588 installation, do the following:

(i) Remove the PT disk P/N 3044188-01 from service before it reaches 10,000 cycles-since-new (CSN).

(ii) Re-identify the PT disk to P/N 3072542-01, at the next engine shop visit, not to exceed 10,000 CSN on the PT disk, before reinstalling it in any engine. Use paragraphs 3.B.(1) through 3.B.(1)(b)4 of the Accomplishment Instructions of P&WC ASB No. PW200-72-A28311, Revision 2, dated July 24, 2012, to do the re-identification.

(iii) After re-identification of the PT disk to P/N 3072542-01, retain the total cycles accumulated as P/N 3044188-01. The cycles remaining on the re-identified P/N 3072542-01 PT disk must be calculated using the difference between the published life limit of P/N 3072542-01 and the total number of cycles accumulated as P/N 3044188-01. The maximum in-service life of PT disk P/N 3072542-01 is 10,000 CSN.

(2) After the effective date of this AD, do not install any PT disk P/N 3044188-01 that is listed in Table 1 of P&WC ASB No. PW200-72-A28311, Revision 2, dated July 24, 2012, in any engine with Turbomachinery Assembly P/N 3058588 installation, unless the PT disk has been re-identified to P/N 3072542-01. Use paragraphs 3.B.(1) through 3.B.(1)(b)4 of the Accomplishment Instructions of P&WC ASB No. PW200-72-A28311, Revision 2, dated July 24, 2012, to do the PT disk re-identification.

(g) Credit for Actions Accomplished in Accordance With Previous Service Information

You may take credit for the re-identification of the PT disk that is required by this AD if you performed the re-identification before the effective date of this AD using P&WC ASB No. PW200-72-A28311, dated March 1, 2012, or P&WC ASB No. PW200-72-A28311, Revision 1, dated March 22, 2012.

(h) Alternative Methods of Compliance (AMOCs)

The Manager, Engine Certification Office, may approve AMOCs for this AD. Use the procedures found in 14 CFR 39.19 to make your request.

(i) Related Information

(1) For more information about this AD, contact James Lawrence, Aerospace Engineer, Engine Certification Office, FAA, Engine & Propeller Directorate, 12 New England Executive Park, Burlington, MA 01803; phone: 781-238-7176; fax: 781-238-7199; email: james.lawrence@faa.gov.

(2) Refer to Transport Canada AD CF-2012-23, dated July 26, 2012, and P&WC Alert Service Bulletin No. PW200-72-A28311, Revision 2, dated July 24, 2012, for related information.

(3) The Engine Maintenance Manual (EMM) Temporary Revisions (TRs) listed in Table 1 to paragraph (i)(3) pertain to the subject of this AD.

Table 1 to Paragraph (i)(3)—EMM TRs
EMM P/Ns: | TR Nos.:
3071602 | AL-3, AL-4.
3043612 | AL-12, AL-13.
3043322 | AL-16.
3039732 | AL-18, AL-19.
3038324 | AL-20.

(4) For service information identified in this AD, contact Pratt & Whitney Canada Corp., 1000 Marie-Victorin, Longueuil, Quebec, Canada, J4G 1A1; phone: 800-268-8000; fax: 450-647-2888; Web site: www.pwc.ca. You may view the referenced service information at the FAA, Engine & Propeller Directorate, 12 New England Executive Park, Burlington, MA. For information on the availability of this material at the FAA, call 781-238-7125.

Issued in Burlington, Massachusetts, on October 29, 2012.
Colleen M. D'Alessandro,
Assistant Manager, Engine & Propeller Directorate, Aircraft Certification Service.

[FR Doc. 2012-27169 Filed 11-6-12; 8:45 am]

BILLING CODE 4910-13-P